DEPARTMENT OF AGRICULTURE

Animal and Plant Health Inspection Service

[Docket No. APHIS-2018-0025]

Notice of Availability of a Pest Risk Analysis for the Importation of Fresh Pepper Fruit From Colombia Into the Continental United States

AGENCY: Animal and Plant Health Inspection Service, USDA.

ACTION: Notice of availability.

SUMMARY: We are advising the public that we have prepared a pest risk analysis that evaluates the risks associated with importation of fresh pepper fruit from Colombia into the continental United States. Based on the analysis, we have determined that the application of one or more designated phytosanitary measures will be sufficient to mitigate the risks of introducing or disseminating plant pests or noxious weeds via the importation of fresh pepper fruit from Colombia. We are making the pest risk analysis available to the public for review and comment.

DATES: We will consider all comments that we receive on or before July 8, 2019.

ADDRESSES: You may submit comments by either of the following methods:

• Federal eRulemaking Portal: Go to http://www.regulations.gov/#!docketDetail;D=APHIS-2018-0025.

• Postal Mail/Commercial Delivery: Send your comment to Docket No. APHIS-2018-0025, Regulatory Analysis and Development, PPD, APHIS, Station 3A-03.8, 4700 River Road, Unit 118, Riverdale, MD 20737-1238.

Supporting documents and any comments we receive on this docket may be viewed at http://www.regulations.gov/#!docketDetail;D=APHIS-2018-0025 or in our reading room, which is located in Room 1141 of the USDA South Building, 14th Street and Independence Avenue SW, Washington, DC. Normal reading Room hours are 8 a.m. to 4:30 p.m., Monday through Friday, except holidays. To be sure someone is there to help you, please call (202) 799-7039 before coming.

FOR FURTHER INFORMATION CONTACT: Mr. Nicholas Van Gorden, Regulatory Policy Specialist, Regulatory Coordination and Compliance, PPQ, APHIS, 4700 River Road, Unit 133, Riverdale, MD 20737-1231; (301) 851-2326.

SUPPLEMENTARY INFORMATION:

Background

Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 contains a performance-based process for approving the importation of fruits and vegetables that, based on the findings of a pest risk analysis, can be safely imported subject to one or more of the five designated phytosanitary measures listed in paragraph (b) of that section.

APHIS received a request from the national plant protection organization (NPPO) of Colombia to allow fresh pepper (Capsicum spp., specifically the domesticated species Capsicum annuum L., C. baccatum L., C. chinense Jacq., C. frutescens L., and C. pubescens Ruiz & Pav.) fruit with stems into the continental United States. As part of our evaluation of Colombia's request, we have prepared a pest risk assessment (PRA) to identify pests of quarantine significance that could follow the pathway of importation of fresh pepper fruit into the continental United States from Colombia. Based on the PRA, a risk management document (RMD) was prepared to identify phytosanitary measures that could be applied to the fresh pepper fruit to mitigate the pest risk.

We have concluded that fresh pepper fruit can be safely imported from Colombia into the continental United States using one or more of the five designated phytosanitary measures listed in § 319.56-4(b). The NPPO of Colombia would have to enter into an operational workplan with APHIS that spells out the daily procedures the NPPO will take to implement the measures identified in the RMD. These measures are summarized below and would also be listed in APHIS' Fruits and Vegetables Import Requirements database, available at https://epermits.aphis.usda.gov/manual:

• The peppers must be grown in approved places of production registered with the NPPO of Colombia.

• Pepper places of production must consist of pest-exclusionary structures.

• The places of production must contain traps for the detection of Mediterranean fruit fly (Ceratitis capitata (Wiedemann)) and South American fruit fly (Anastrepha fraterculus (Wiedemann)) both within and around the structures.

• The places of production must be inspected prior to harvest for Neoleucinodes elegantalis (Guenée), a fruit boring moth; Copitarsia decolora (Guenée), a moth; and Puccinia pampeana Speg., a pathogenic fungus that causes pepper and green pepper rust.

• If any of these pests, or other quarantine pests, are found to be generally infesting or infecting the places of production, the NPPO of Colombia must immediately prohibit that production site from exporting peppers to the continental United States and notify APHIS of the action. The prohibition will remain in effect until the Colombian NPPO and APHIS agree that the risk has been mitigated.

• The Colombian NPPO must maintain records of trap placement, checking of traps, and any quarantine pest captures. The Colombian NPPO must maintain an APHIS-approved quality control program to monitor or audit the trapping program. The trapping records must be maintained for APHIS review.

• The peppers must be packed within 24 hours of harvest in a pest-exclusionary packinghouse.

• The peppers must be safeguarded by an insect-proof mesh screen or plastic tarpaulin while in transit to the packinghouse and while awaiting packing. The peppers must be packed in insect-proof cartons or containers, or covered with insect-proof mesh or plastic tarpaulin, for transit into the continental United States. These safeguards must remain intact until arrival in the continental United States or the consignment will be denied entry into the continental United States.

• During the time the packinghouse is in use for exporting peppers to the continental United States, the packinghouse may only accept peppers from registered approved places of production.

• Each consignment of peppers must be accompanied by a phytosanitary certificate of inspection issued by the Colombian NPPO stating that the fruit in the consignment has been produced in accordance with 7 CFR 319.56-4. Consignments must be packed in cartons that are labeled with the identity of the place of production.

• Consignments of fresh pepper fruit from Colombia are subject to inspection at the port of entry in the continental United States.

• Consignments are not for importation or distribution into or within Hawaii, Puerto Rico, or any U.S. Territory.

In addition to these specific measures, fresh pepper fruit from Colombia would be subject to the general requirements listed in § 319.56-3 that are applicable to the importation of all fruits and vegetables.

Therefore, in accordance with § 319.56-4(c), we are announcing the availability of our PRA and RMD for public review and comment. Those documents, as well as a description of the economic considerations associated with the importation of fresh pepper fruit from Colombia, may be viewed on the Regulations.gov website or in our reading room (see ADDRESSES above for a link to Regulations.gov and information on the location and hours of the reading room). You may request paper copies of the PRA and RMD by calling or writing to the person listed under FOR FURTHER INFORMATION CONTACT. Please refer to the subject of the analysis you wish to review when requesting copies.

After reviewing any comments we receive, we will announce our decision regarding the import status of fresh pepper fruit from Colombia in a subsequent notice. If the overall conclusions of our analysis and the Administrator's determination of risk remain unchanged following our consideration of the comments, then we will authorize the importation of fresh pepper fruit from Colombia into the continental United States subject to the requirements specified in the RMD.

Authority: 7 U.S.C. 1633, 7701-7772, and 7781-7786; 21 U.S.C. 136 and 136a; 7 CFR 2.22, 2.80, and 371.3.

Done in Washington, DC, this 3rd day of May 2019.
Kevin Shea,
Administrator, Animal and Plant Health Inspection Service.

[FR Doc. 2019-09512 Filed 5-8-19; 8:45 am]

BILLING CODE 3410-34-P